DEPARTMENT OF HEALTH AND HUMAN SERVICES

Office of the Secretary

HHS Inaugural National Conference on Women's Health

AGENCY: Office on Women's Health (OWH), Office of the Assistant Secretary for Health, Department of Health and Human Services (HHS).

ACTION: Notice of opportunity to co-sponsor HHS Office on Women's Health conference.

SUMMARY: The U.S. Department of Health and Human Services' Office on Women's Health announces an opportunity for non-Federal and private sector organizations and entities to co-sponsor the inaugural HHS National Conference on Women's Health. The conference will take place at the Omni Shoreham Hotel in Washington, DC, on March 11-13, 2026.

The conference will address breakthroughs in research, prevention, diagnosis, and treatment of health conditions that affect women across the lifespan. It will explore opportunities to bridge gaps between evidence and implementation and drive cross-sector innovation to modernize patient care and promote better health.

The National Conference on Women's Health co-sponsorship will involve executing a series of financially self-sustaining meetings, events, and/or conference networking opportunities to convene women's health stakeholders and facilitate discussions on health topics that impact women and girls. HHS will be responsible for arranging and paying for conference facilities, logistics, and advertising. Co-sponsors will be responsible for developing programming for and managing logistics of co-sponsored meetings, events, and/or conference networking opportunities and shall consult with HHS and receive HHS approval prior to finalizing such opportunities. Co-sponsors will be responsible for paying for expenses related to and advertising the co-sponsored meetings, events, and/or conference networking opportunities. No federal funds will be provided to the co-sponsor. Registration fees will not be collected for the conference or co-sponsored activities.

This co-sponsorship opportunity is not a grant or contract award, and each entity will be responsible for financially supporting its own activities. Potential co-sponsors must be capable of managing the day-to-day operations associated with the proposed activities in collaboration with the conference organizers and be willing to participate substantively in the execution of the co-sponsored activity(ies). Participation by co-sponsor(s) does not imply endorsement by the U.S. Department of Health and Human Services.

DATES: To receive consideration, proposals for co-sponsoring the HHS National Conference on Women's Health must be received through https://ncwh2026.com/en/co-sponsorship-registration-form by 5:00 p.m. EST on February 27, 2026.

Eligibility for Co-Sponsorship: To be eligible, a potential co-sponsor shall: (1) participate substantively in the co-sponsored activity and (2) have an organizational mission that is consistent with OWH and HHS.

The selected co-sponsoring organization shall furnish the necessary personnel, materials, and services to administer its responsibility for the conference. These duties will be outlined in a co-sponsorship agreement with OWH that will set forth the details of the co-sponsored activity.

Co-Sponsorship Proposal: Each co-sponsorship proposal shall contain a description of: (1) The entity or organization's background and history, (2) its ability to satisfy the co-sponsorship criteria detailed above, and (3) its proposed involvement in the co-sponsored activity.

Evaluation Criteria: After engaging in exploratory discussions with potential co-sponsors that respond to this notice, representatives of OWH will select the co-sponsor(s) using the following evaluation criteria:

(1) Qualifications and capability to fulfill co-sponsorship responsibilities;

(2) Creativity related to enhancing the conference;

(3) Potential for reaching and generating attendees from among key stakeholders, including federal, state and local policymakers, health care professionals, consumers and patients, purchasers and payers, and/or other health officials;

(4) Description of financial management expertise, including demonstration of experience in developing a budget and collecting and managing monies from organizations and individuals; and

(5) Proposed plan for managing a co-sponsorship opportunity with OWH.

FOR FURTHER INFORMATION CONTACT: NCWH2026@roseliassociates.com.

SUPPLEMENTARY INFORMATION:

Background: The HHS Office on Women's Health (OWH) is charged with providing expert advice and consultation to the Secretary concerning scientific, legal, ethical, and policy issues related to women's health. OWH establishes short-range and long-range goals within the Department and coordinates on activities within the Department that relate to disease prevention, health promotion, service delivery, research, and public and health care professional education, for issues of particular concern to women throughout their lifespan. OWH monitors the Department's activities regarding women's health and identifies needs regarding the coordination of activities. OWH is also responsible for facilitating the exchange of information through the National Women's Health Information Center. Additionally, OWH coordinates efforts to promote women's health programs and policies with the private sector.

Procedures for Attendance: NCWH2026.com.

Dorothy A. Fink,
Principal Deputy Assistant Secretary for Health, Deputy Assistant Secretary for Women's Health, Office of the Assistant Secretary for Health.

[FR Doc. 2026-01804 Filed 1-28-26; 8:45 am]

BILLING CODE 4150-33-P